DEPARTMENT OF COMMERCE

National Oceanic and Atmospheric Administration

[Docket No. 000817236-0236-01; I.D. 091100B]

RIN 0648-ZA92

General Grant Administration Terms and Conditions of the Coastal Ocean Program

AGENCY: Center for Sponsored Coastal Ocean Research/Coastal Ocean Program (CSCOR/COP), National Ocean Service (NOS), National Oceanic and Atmospheric Administration (NOAA), Commerce.

ACTION: Notice for financial assistance for project research grants and cooperative agreements.

SUMMARY: It is the intent of NOAA/NOS/CSCOR/COP to provide direct financial assistance in the form of discretionary research grants and cooperative agreements under its program for the management of coastal ecosystems.

This document does not solicit proposals but rather describes the general grant administration terms and conditions of the CSCOR/COP program for fiscal year 2001. It is CSCOR/COP’s intent to issue supplemental Announcements of Opportunities (AOs) to request proposals on specific projects throughout the year on an as-needed basis. Any AOs will be issued through the Federal Register. Information regarding these announcements will be made available on the CSCOR/COP Home Page and CSCOR/COP’s e-mail list. These announcements will provide specific program descriptions.

CSCOR/COP supports research on critical issues that exist in the Nation’s estuaries, coastal waters, and the Great Lakes and translates research findings into accessible information for coastal managers, planners, lawmakers, and the public. CSCOR/COP’s projects are multi-disciplinary, large in scale, and long in duration (usually 3 to 5 years.) Projects covering more than 1 year will usually be funded on an annual basis.

DATES: Effective October 19, 2000.

ADDRESSES: Center for Sponsored Coastal Ocean Research/Coastal Ocean Program, National Oceanic and Atmospheric Administration, 1315 East West Highway, Room 9700, Silver Spring, MD 20910-3282

FOR FURTHER INFORMATION CONTACT: Leslie McDonald, CSCOR/COP Grants Administrator,(301)713-3338/x137.

NOAA Standard Form and COP-specific application forms are accessible with instructions on the following COP Internet Site: http://www.cop.noaa.gov, under the COP Grants Support section, Part D, Application Forms for Initial Proposal Submission. If you are unable to access this information, you may call COP at 301-713-3338 to leave a mailing request. Further information on this program may be viewed at the same web site.

SUPPLEMENTARY INFORMATION:

Background

(1) Program Authority(s): 16 U.S.C 1456c, 33 U.S.C 1121 et seq.; 33 U.S.C 883a et seq.; 33 U.S.C 1442; and Pub. L. 105-383.

(2) Catalog of Federal Domestic Assistance (CFDA): 11.478 Coastal Ocean Program.

(3) Program Description: NOAA’s CSCOR/COP provides predictive capability for managing coastal ecosystems through sponsorship of research. CSCOR/COP seeks to deliver the highest quality science in a timely manner for important coastal decisions. It supports research on critical issues that exist in the Nation's estuaries, coastal waters, and Great Lakes and translates its findings into accessible information for coastal managers, planners, lawmakers, and the public. The COP also supports educational activities at the graduate and undergraduate level to facilitate the development of qualified professionals in the fields of coastal science, management, and policy.

Coastal Ecosystem Oceanography

CSCOR/COP supports the conservation and management of marine ecosystems through sponsorship of improved ecological and oceanographic predictions for resource management. Studies focus on (1) understanding critical processes that control the abundance, distribution, and replenishment of fishery resources; (2) determining critical habitat processes that influence fishery ecosystems; and (3) quantifying ecosystem species interactions to develop models that can be used in management decisions. Current efforts support studies dealing with Bering Sea pollock, cod and haddock on Georges Bank, salmon in the Pacific Northwest, and the finfish and shellfish resources of the Gulf of Mexico.

Cumulative Coastal Impacts

CSCOR/COP sponsors a series of regional watershed projects on the causes and impacts of multiple stresses on coastal ecosystems. Studies focus on (l) developing indicators of stress; (2) predicting impacts of multiple stresses (3) valuing natural resources in ecological and economical terms; and (4) predicting the outcomes of management strategies. Current efforts are located in Chesapeake Bay, Florida Bay and the Keys, the Great Lakes and coastal areas of South Carolina, the Pacific Northwest, and coral reefs in Florida and Hawaii.

Harmful Algal Blooms (HABs) and Hypoxia

CSCOR/COP also sponsors studies on the ecology and oceanography of harmful algal blooms (HABs), focusing on identifying and modeling linkages between the physiology, ecology, behavior and toxicity of HABs and local/regional circulation patterns and water quality. These results will not only generate greater general knowledge of problematic species in the U.S. coastal waters, but also provide a foundation for development of regional HAB forecasting capabilities, eventually providing a means to assess the effectiveness of prevention, control, and mitigation strategies developed in the programs. Current regional efforts are located in the Gulf of Maine, eastern Long Island, the coastal regions of the mid-Atlantic States, and the western coast of Florida.

Eutrophication and resulting hypoxia have become common problems affecting living marine resources and recreational uses of coastal waters. The CSCOR/COP supports research examining the influences of nutrient loading, physical forcing, climate change, and extent of hypoxic conditions (i.e., the “dead zone”) on the ecosystem and fisheries of the northern Gulf of Mexico.

Benefits of the CSCOR/COP

Continued population pressures on the Nation’s coastal areas and ongoing changes in the environment will continue to stress our coastal waters, bays, and estuaries and the Great Lakes. CSCOR/COP has focused on developing information for longer range U.S. management and policy at large and complex scales. CSCOR/COP research will help the U.S. respond to the major challenges of the next century and to balance the needs of economic growth with those of conserving the environment and its coastal resources.

(4) Funding Availability: On average, annual funding for each Announcement of Opportunity is approximately $l,000,000. Each CSCOR/COP project generally consists of several coordinated investigations with separate awards, ranging from $5,000 to $500,000. Actual funding levels will depend upon the final budget appropriations for the fiscal year. Individual AOs will be released with specific applicable dollar amounts.

The financial history of CSCOR/COP grants, interagency agreements, and intra-NOAA funding transfers is as follows: FY97 $10.00M; FY98 $8.5M; FY99 $8.5M, and FY00 $8.5M. Publication of this notice does not obligate Commerce/NOAA to any specific award or to obligate any part of the entire amount of funds available. Recipients and subrecipients are subject to all Federal laws and agency policies, regulations, and procedures applicable to Federal financial assistance awards.

If an application for a financial assistance award is selected for funding, CSCOR/COP has no obligation to provide any additional prospective funding in connection with that award in subsequent years.

(5) Matching Requirements: None.

(6) Type of Funding Instrument: They are project grants and cooperative agreements, interagency agreements and transfers, and intra-NOAA funding transfers.

In an effort to maximize the use of limited resources, applications from non-Federal, non-NOAA Federal and NOAA applicants will be competed against each other. Research proposals selected for funding from non-Federal researchers will be funded through a project grant. Research proposals selected for funding from non-NOAA Federal applicants will be funded through an interagency transfer, provided legal authority exists for the Federal applicant to receive funds from another agency. Support may be solely through COP or partnered with other Federal offices and agencies.

(7) Eligibility Criteria: CSCOR/COP funding opportunities are open to all interested, qualified, non-Federal, and Federal researchers. Researchers must be affiliated with a not-for-profit institution, and proposals must be submitted through a not-for-profit institution. Non-Federal researchers should comply with their institutional requirements for proposal submission.

Non-NOAA Federal applicants will be required to submit certifications or documentation showing that they have specific legal authority to receive funds from the Department of Commerce (DOC) for this research. Foreign researchers must subcontract with U.S. proposers. Non-Federal researchers affiliated with NOAA-University Joint Institutes should comply with joint institutional requirements; they will be funded through grants either to their institutions or to joint institutes.

Proposals deemed acceptable from Federal researchers will be funded through a mechanism other than a grant or cooperative agreement, where legal authority allows for such funding. DOC requirements will prevail if there is a conflict between DOC requirements and institutional requirements.

(8) Award Period: Typically, CSCOR/COP’s projects average 1 to 5 years in length. Projects covering more than 1 year will usually be funded on an annual basis.

(9) A pplication Forms: When applying for financial assistance under a published AO, applicants will be able to obtain both the standard NOAA application forms and COP-specific application forms at the COP home page. Forms may be viewed and, in most cases, filled in by computer. All forms must be printed, completed, and mailed to CSCOR/COP with original signatures in blue ink. If you are unable to access this information, you may also call (301)713-3338 to leave a mail request. At time of submission, the applicant will follow the proposal requirements presented in the funding announcement.

At time of original application for financial assistance, all proposers are required to submit the NOAA Standard Form 424 (Rev July 1997), “Application for Federal Assistance” and a COP Summary Proposal Budget Form for each fiscal year increment in lieu of the NOAA Standard Form 424A (Rev July 1997),“Budget Information for Non-Construction Programs.” Applicants shall also include a budget narrative/justification that supports all proposed budget categories. The SF-424A shall be requested only those recipients subsequently recommended for award.

Multi-institution proposals must include a Summary Proposal Budget Form from each institution. Applications not adhering to these stated guidelines will be returned to the applicant without further review.

In addition, other forms required as part of a complete application package from only those recipients subsequently recommended for award include the NOAA Standard Form 424-B, ”Assurances for Non-Construction Programs”; the CD-511, “Certifications Regarding Debarment, Suspension and Other Responsibility Matters; Drug-Free Workplace Requirements and Lobbying”; the CD-512, “Certification Regarding Debarment, Suspension, Ineligibility and Voluntary Exclusion-Lower Tier Covered Transactions and Lobbying” (this certification is to remain with the recipient and is not forwarded to the Grants Officer); and the SF-LLL,”Disclosure of Lobbying Activities” (if applicable).

(10) Project Funding Priorities: Priority considerations will be given to proposals that promote balanced coverage of the science objective stated in the later AOs, avoid duplication of completed or ongoing work, and increase geographic diversity. Additional and/or other priorities may be detailed in CSCOR/COP AOs.

(11) Evaluation Criteria: Unless otherwise stated in an individual funding announcement, the following criteria and evaluation weightings will be used for evaluating both solicited and unsolicited proposals:

(a) Scientific Merit (20 percent): Intrinsic scientific value of the proposed work and the likelihood that it will lead to fundamental advancements, new discoveries or will have substantial impact on progress in that field;

(b) Research Performance Competence (20 percent): The capability of the investigator and collaborators to complete the proposed work as evidenced by past research accomplishments, previous cooperative work, timely communication, and the sharing of findings, data, and other research products;

(c) Relevance (20 percent): Likelihood that the research will make substantial contributions or develop products leading to improved management of coastal resources;

(d) Technical Approach (20 percent): The proposed work has focused science objectives and a complete and efficient strategy for making measurements and observations in support of the objectives. The approach is sound and logically planned throughout the cycle of the proposed work;

(e) Linkages (10 percent): Connections to existing or planned studies, or demonstrated cooperative arrangements to provide or use data or other research results to achieve the objectives.

(f) Costs (10 percent): Adequacy of the proposed resources to accomplish the proposed work, and the appropriateness of the requested funding with respect to the total available funds.

(12) Selection Procedures: All proposals will be evaluated and ranked individually in accordance with the assigned weights of the above evaluation criteria by independent peer mail review and/or by independent peer panel review. Both Federal and non-Federal experts in the field may be used in this process. The peer mail reviewers will be several individuals with expertise in the subjects addressed by particular proposals. Each mail reviewer will see only certain individual proposals within his or her area of expertise, and rank them individually on a scale of one to five, where scores represent respectively: Excellent, Very Good, Good, Fair, Poor.

The peer panel will comprise of 6 to 12 individuals, with each individual having expertise in a separate area, so that the panel, as a whole, covers a range of scientific expertise. The panel will have access to all mail reviews of proposals, and will use the mail reviews in discussion and evaluation of the entire slate of proposals.

The program officer(s) will neither vote or rank proposals as part of the independent peer panel nor participate in discussion of the merits of the proposal. Those proposals receiving an average panel rank of “Fair” or “Poor” will not be given further consideration, and proposers will be notified of non-selection.

For the proposals rated by the panel as either “Excellent,” “Very Good,” or “Good”, the program managers will ,first, select the proposals to be recommended for funding by applying the project funding priorities listed in section 10 and specific objectives published in the AO; second, determine the total duration of funding for each proposal; and, third, determine the amount of funds available for each proposal. Because of consideration of the project funding priorities, awards may not necessarily be made in rank order.

Investigators may be asked to modify objectives, work plans or budgets, and provide supplemental information required by the agency prior to the award. When a decision has been made (whether an award or declination), verbatim anonymous copies of reviews and summaries of review panel deliberations, if any, will be made available to the proposer.

(13) Other Requirements:

(a) Federal Policies and Procedures: Recipients and subrecipients are subject to all Federal laws and Federal and DOC policies, regulations, and procedures applicable to Federal financial assistance awards.

(b) Past Performance: Unsatisfactory performance by a recipient under prior Federal awards may result in an application not being considered for funding.

(c) Preaward Activities: If applicants incur any costs prior to an award being made, they do so solely at their own risk. Notwithstanding any verbal assurance that they may have received regarding an award, there is no obligation on the part of the Department of Commerce to cover pre-award expenditures unless approved by the Grants Officer, in writing, as part of the terms when the award is made.

(d) No Obligation for Future Funding: If an application is selected for funding, DOC/NOAA has no obligation to provide any additional future funding in connection with that award. Amendment of an award to increase funding or, unless the award specifically provides to the contrary, to extend the period of performance is at the total discretion of DOC/NOAA.

(e) Delinquent Federal Debts: No award of Federal funds shall be made to an applicant who has an outstanding delinquent Federal debt until:

(i) The delinquent account is paid in full.

(ii) A negotiated repayment schedule is established, and at least one payment is received, or

(iii) Other arrangements satisfactory to the Department of Commerce are made.

(f) Name Check Review: All non-profit and for-profit applicants are subject to a name check review process. Name checks are intended to reveal if any key individuals associated with the applicant have been convicted of, or are presently facing criminal charges such as fraud, theft, perjury, or other matters that significantly reflect on the applicant’s management honesty or financial integrity.

(g) Debarment, Suspension, Drug-Free Workplace, and Lobbying Provisions: All applicants must comply with the requirements of l5 CFR part 26, “Government-wide Debarment and Suspension (nonprocurement) and Government-wide Requirements for Drug-Free Workplace (Grants)” and with l5 CFR part 28, “New Restrictions on Lobbying,” including the submission of required forms and the acquisition of certifications from lower tier applicants/bidders.

(h) False Statements: A false statement on an application is grounds for denial or termination of funds and grounds for possible punishment by a fine or imprisonment as provided in 18 U.S.C. l00l.

(i) Intergovernmental Review: Applications under this program are not subject to Executive Order l2372, “Intergovernmental Review of Federal Programs.”

(j) Executive Order 12866: This action was determined to be not significant for purposes of Executive Order 12866.

(k) Minority Serving Institutions: Pursuant to Executive Orders 12876, 12900, and 13021, the Department of Commerce, National Oceanic and Atmospheric Administration (DOC/NOAA), is strongly committed to broadening the participation of Historically Black Colleges and Universities, Hispanic Serving Institutions, and Tribal Colleges and Universities in its educational and research programs. The DOC/NOAA vision, mission, and goals are to achieve full participation by Minority Serving Institutions (MSI) in order to advance the development of human potential, to strengthen the nation’s capacity to provide high-quality education, and to increase opportunities for MSIs to participate in, and benefit from, Federal Financial Assistance programs. DOC/NOAA encourages all applicants to include meaningful participation of MSIs.

(l) Buy America: Applicants are hereby notified that they are encouraged, to the greatest practicable extent, to purchase American-made equipment and products with funding provided under this program.

(m) Data Archiving: Any data collected in projects supported by CSCOR/COP must be delivered to a National Data Center (NDC), such as the National Oceanographic Data Center (NODC), in an electronic format to be determined by the institution, the NODC, and Program Officer. It is the responsibility of the institution for the delivery of these data; the DOC will not provide additional support for delivery beyond the award. Additionally, all biological cultures established, molecular probes developed, genetic sequences identified, mathematical models constructed, or other resulting information products established through support provided by CSCOR/COP must be made available to the general research community at no or modest handling charge (to be determined by the institution, Program Officer, and DOC). For more details, refer to CSCOR/COP data policy posted at the COP home page.

(n) Please note that NOAA is developing a policy on internal overhead charges, NOAA scientists considering submission of proposals should contact the appropriate CSCOR/COP Program Manager for the latest information.

(o) Paperwork Reduction Act: This notification involves collection-of-information requirements subject to the Paperwork Reduction Act. The use of Standard Forms 424, 424A, 424B, and SF-LLL has been approved by the Office of Management and Budget (OMB) under control numbers 0348-0043, 0348-0044, 0348-0040 and 0348-0046.

The COP Grants Application Package has been approved by OMB under control number 0648-0384 and includes the following information collections: a Summary Proposal Budget Form, a Project Summary Form, standardized formats for the Annual Performance Report and the Final Report, and the submission of up to 20 copies of proposals. Copies of these forms and formats can be found on the COP Home Page.

Notwithstanding any other provision of law, no person is required to respond to, nor shall any person be subject to a penalty for failure to comply with a collection of information subject to the requirements of the Paperwork Reduction Act, unless that collection displays a currently valid OMB control number.

Dated: October 12, 2000.
Margaret A. Davidson,
Acting Assistant Administrator for Ocean Services and Coastal Zone Management.

[FR Doc. 00-26937 Filed 10-18-00; 8:45 am]

BILLING CODE 3510-JS-S